GENERAL SERVICES ADMINISTRATION

[OMB Control No. 3090-0044]

GSA Submission for OMB Review; GSA Form 3453, Application/Permit for Use of Space in Public Buildings and Grounds

AGENCY: General Services Administration (GSA), Public Buildings Service.

ACTION: Notice of request for an extension to an existing OMB clearance; request for public comments.

SUMMARY: Under the provisions of the Paperwork Reduction Act of 1995 (44 U.S.C. Chapter 35), the General Services Administration (GSA) has submitted to the Office of Management and Budget (OMB) a request to review and approve an extension of a currently approved information collection requirement concerning GSA Form 3453, Application/Permit for Use of Space in Public Buildings and Grounds. OMB reinstated the collection March 2002. A request for public comments was published at 67 FR 30686, May 7, 2002. No comments were received.

Public comments are particularly invited on: Whether the information collection generated by the GSAR Clause, Preparation, Submission, and Negotiation of Subcontracting Plans is necessary for small business/subcontracting plans; whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Comment Due Date: October 21, 2002.

FOR FURTHER INFORMATION CONTACT: Charlene Heeter, Public Buildings Service (PX), GSA (202) 208-0214.

ADDRESSES: Comments regarding this burden estimate or any other aspect of this collection of information, including suggestions for reducing this burden to Ms. Jeanette Thornton, GSA Desk Officer, OMB, Room 10236, NEOB, Washington, DC 20503, and a copy to Ms. Stephanie Morris, General Services Administration, Regulatory & Federal Assistance Publications Division, 1800 F Street, NW., Room 4035, Washington, DC 20405. Please cite OMB Control Number 3090-0044.

SUPPLEMENTARY INFORMATION:

A. Purpose

The GSA is requesting the Office of Management and Budget (OMB) to review and renew information collection, 3090-0044, Application/Permit for Use of Space in Public Buildings and Grounds. The general public uses this GSA Form to request the use of public space in Federal buildings for cultural, educational, or recreational activities. A copy, sample, or description of any material or item proposed for distribution or display must also accompany this request.

B. Annual Reporting Burden

Respondents: 8,000.

Response Per Respondent: 1.

Hours Per Response: 0.05.

Total Burden Hours: 400.

Obtaining Copies of Proposal

Requester may obtain a copy of the information collection documents from the General Services Administration, Acquisition Policy Division (MVP), 180 F Street, NW., Room 4035, Washington, DC 20405, telephone (202) 208-7312. Please cite OMB Control No. 3090-0044, GSA Form 3453, Application/Permit for Use of Space in Public Buildings and Grounds, in all correspondence.

Dated: September 13, 2002.
Michael W. Carlton,
Chief Information Officer (I).

[FR Doc. 02-23791 Filed 9-18-02; 8:45 am]

BILLING CODE 6820-EP-M